FEDERAL TRADE COMMISSION

Granting of Request for Early Termination of the Waiting Period Under the Premerger Notification Rules

Section 7A of the Clayton Act, 15 U.S.C. 18a, as added by Title II of the Hart-Scott-Rodino Antitrust Improvement Acts of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—09/30/2002
20021184 | Ripplewood Partners, L.P. | Robert H. Baker | All American Chevrolet, Inc.
|  |  | Bob Baker Automative, Inc.
|  |  | Bob Baker Automative, Inc.
|  |  | Bob Baker Imports, Inc.
|  |  | Bob Baker Volkswagen, Inc.
|  |  | El Cajon Luxury Cars, Inc.
|  |  | University Ford, Inc.
20021187 | Berkshire Hathaway Inc. | Comdisco Holding Company Inc. | Comdisco Holding Company Inc.
20021189 | Lumina Parent S.A.R.L. | Schneider Electric S.A. | Legrand S.A.
20021193 | FdG Capital Partners LLC | Enron Corp. (Debtor-in-Possession) | Enron Corp. (Debtor-in-Possession)
20021196 | TPG Partners III, L.P | SAirGroup AG | Gate Gourmet Holding AG.
20021198 | J.P. Morgan Chase & Co. | Federated Department Stores, Inc. | Arizona Mail Order, Inc.
|  |  | Bedford Fair Apparel, Inc.
|  |  | Family Farm Gifts, Inc.
|  |  | Figi's Gifts, Inc.
|  |  | Figi's Inc.
|  |  | Figi's Mail Order Gifts, Inc.
|  |  | LM&B Catalog, Inc.
|  |  | PC Flowers & Gifts.com LLC.
20021200 | Nippon Yusen Kabushiki Kaisha | Christos N. Kritikos | Ceres Terminals Incorporated.
|  |  | Equipvest LLC.
20021201 | TransCanada Pipelines Limited | Limestone Electron Trust | Manchief Power Company LLC.
Transactions Granted Early Termination—10/01/2002
20021056 | E.I. duPont de Nemours and Company | ChemFirst Inc | ChemFirst Inc.
Transactions Granted Early Termination—10/03/2002
20021197 | SPX Corporation | Vance International, Inc. Employee Stock Ownership Plan | Vance International, Inc.
Transactions Granted Early Termination—10/04/2002
20021152 | International Business Machines Corporation | ACCESS360 | ACCESS360.
20021163 | Medtronic, Inc | Spinal Dynamics Corporation | Spinal Dynamics Corporation.
20021183 | Warburg, Pincus Equity Partners, L.P. | Centerpulse Ltd | Sulzer Intra Therapeutics Inc.
20021202 | General Electric Company | Castle Harlan Partners III. L.P. | Ion Track, Inc.
20021204 | Blue Holdings Corp | Vivendi Environment, S.A | U.S. Filter Distribution Group, Inc.
20021206 | Provimlux Investments S.A | Intalenergia S.p.A. | Provimi
20021207 | Atlantic Equity Partners, III, LP | Carl F. Paul, c/o Golfsmith International Inc | Golfsmith International, Inc.
20021209 | Linsalata Capital Partners Fund IV, L.P. | H.I.G. Investment Group L.P. | Potpourri Holdings, Inc.
20021210 | J.P. Morgan Chase & Co | Blue Holdings Corporation | Blue Holdings Corporation.
20021211 | Thomas H. Lee Equity Fund, V. L.P | Blue Holdings Corp. | Blue Holdings Corp.
20021213 | Cooperative Centrale Raiffeisen-Boerenleenbank B.A | CIT Group Inc. | Picker Financial Group, L.L.C.
20021214 | Cooperative Centrale Raiffeisen-Boerenleenbank B.A | Koninklijke Philips Electronics N.V. | Picker Financial Group, L.L.C.
20021222 | James D. Reigle Trust dated December 15, 1978 | Illinois Tool Works Inc | Premark WB Holdings, Inc.
|  |  | The West Bend Company.
Transactions Granted Early Termination—10/08/2002
20021216 | Avery Dennison Corporation | L&E Packaging, LLC | L&E Packaging, LLC.
Transactions Granted Early Termination—10/10/2002
20021224 | Home Depot, Inc. (The) | Brian J. Whitehead | DuraFloors, Inc.
|  |  | Floor of Florida, LLC.
|  |  | Floors, Inc.
|  |  | Supply Expo, L.P.
20021226 | Home Depot, Inc | Arvada Hardwood Floor Company | Arvada Hardwood Floor Company.
|  |  | Furniture to Go, L.P. L.P.
|  |  | Home Solutions by Arvada Hardwood LLC.
20030001 | New England Medical Center, Inc | Lifespan of Massachusetts, Inc | New England Medical Center Hospitals, Inc.
Transactions Granted Early Termination—10/15/2002
20021180 | US Investigations Services, Inc | VS&A Communications Partners II, L.P | The Official Information Company.
20021217 | Combe Incorporated | Byrnwood Partners II L.P. | J.B. Williams Company, Inc.
20030004 | Finmeccanica S.p.A | Olivetti S.p.A. | Telespazio S.p.A.
20030007 | Harrah's Entertainment, Inc | LAD LLC | Louisiana Downs, Inc.
20030010 | Bain Capital Fund VII, L.P | Georgia-Pacific Corporation | UWW Holdings, Inc.
20030011 | Amer Group Plc | Illinois Tool Works Inc | Precor Incorporated.
|  |  | Precor Products Limited.
|  |  | Precor Sportgerate GmbH.
20030015 | Waddell & Reed Financial, Inc | Paul G. Desmarais | Ivy Acquisition Corp.
Transactions Granted Early Termination—10/16/2002
20030008 | Oak Investment Partners X | New SAC | XIOtech Corporation.
20030009 | Professor Kurt Jenny | Kosan Biosciences, Inc | Kosan Biosciences, Inc.
20030018 | TWI Holdings, Inc | Dag Landvik c/o Fagerdala Industri AB | Tempur World, Inc.
20030019 | TA IX L.P | TWI Holdings, Inc | TWI Holdings, Inc.
20030020 | Enzon, Inc | Elan Corporation, plc | Elan Corporation, plc.
20030022 | Bookham Technology plc | Nortel Networks Corporation | Nortel Networks Corporation.
20030024 | GTCR Fund VII, L.P | Getronics NV | Getronics Government Solutions, L.L.C.
Transactions Granted Early Termination—10/18/2002
20030021 | Gryphon Partners II, L.P | Nobel Learning Communities, Inc | Nobel Learning Communities, Inc.
Transactions Granted Early Termination—10/22/2002
20030028 | AdvancePCS | Accordant Health Services, Inc | Accordant Health Services, Inc.
20030032 | General Motors Corporation | Royal Dutch Petroleum Company | Shell Capital Inc.
20030035 | Tom T. Gores | Koninklijke Philips Electronics N.V | HC Products, LLC.
Transactions Granted Early Termination—10/23/2002
20021223 | Berkshire Hathaway Inc | Doris and Jay Christopher | The Pampered Chef, Ltd.
Transactions Granted Early Termination—10/24/2002
20021205 | AIG Highstar Capital, L.P | The Williams Companies, Inc | Western Frontier Pipeline Company, LLC.
|  |  | Williams Gas Pipelines Central, Inc.
20030014 | Carlyle Partners III, L.P | Invensys plc | Brook Hansen France Sales S.A.R.L.
|  |  | Brook Hansen, S.A.
|  |  | Changzhou Hansen Jiangling Transmissions Co. Ltd.
|  |  | Clarkson Industries Inc.
|  |  | M.C.C. Holding B.V.
|  |  | Prager Incorporated.
|  |  | Rexnord A/S.
|  |  | Rexnord AB.
|  |  | Rexnord Corporation.
|  |  | Rexnord Correntes Ltda.
|  |  | Rexnord do Brasil Industrial Ltda.
|  |  | Rexnord France S.A.R.L.
|  |  | Rexnord GmbH.
|  |  | Rexnord Marbett SpA.
|  |  | Rexnord NV.
|  |  | Stephan GmbH.
20030025 | Fidelity National Financial, Inc | Eastern Financial Systems, Inc | Eastern Financial Systems, Inc.
20030031 | Blue Point Capital Partners, L.P | Generation Capital Partners, L.P | LVI Holding Corporation.
20030037 | Documentum, Inc | eRoom Technology, Inc | eRoom Technology, Inc.
Transactions Granted Early Termination—10/25/2002
20030041 | The Alpine Group, Inc | Superior TeleCom Inc | DNE Systems Inc.
|  |  | Superior Telecommunications Inc.
|  |  | Texas SUT Inc.
Transactions Granted Early Termination—10/29/2002
20020861 | Nucor Corporation | Birmingham Steel Corporation | Birmingham Southeast, LLC.
|  |  | Port Everglades Steel Corporation.
20021126 | Carl C. Icahn | XO Communications, Inc. | XO Communications, Inc
20030030 | Plum Creek Timber Company, Inc | Stora Enso Oyj | Stora Enso North America Corporation.
20030046 | Cooperatieve Centrale Raiffeisen-Boerenleenbank B.A | Occidental Petroleum Corporation | Occidental Overseas Operations, Inc.
Transactions Granted Early Termination—10/30/2002
20030003 | Eaton Corporation | Dana Corporation | Dana Corporation.
Transactions Granted Early Termination—10/31/2002
20021225 | Bergemann GmbH | ABB Ltd | ABB Inc.
|  |  | ABB Meeting Holdings Ltd.
20030023 | Buckeye Partners, L.P | Colonial Pipeline Co | Colonial Pipeline Co.
Transactions Granted Early Termination—11/01/2002
20030039 | Kelso Investments Associates VI, L.P | BCO Holding Company | BCO Holding Company.
20030043 | IOI Corporation Berhad | Unilever N.V | Loders Croklaan Business.
20030044 | The Stanley Works | Russell C. Best and Mariea L. Best, as husband and wife | Best Lock Corporation.
20030045 | AGCO Corporation | SPX Corporation | Sunflower Manufacturing Company, Inc.
Transactions Granted Early Termination—11/04/2002
20030048 | Triton PCS Holdings, Inc | AT&T Wireless Services, Inc | AT&T Wireless PCS Inc.
20030049 | ENEL S.p.A | Central Vermont Public Service Corporation | Gauley River Management Corporation.
|  |  | Gauley River Power Partners, L.P.
20030050 | Banque Federate des Banques | Arnhold and S. Bleichroeder Holdings, Inc | Arnhold and S. Bleichroeder, Inc.
20030051 | Arnhold and S. Bleichroeder Holdings, Inc | Banque Federale Des Banquest Populaires | Natexis Banques Populaires.
20030053 | Brown & Brown, Inc | Donald E. Martin | Chartered Financial Services Corporation.
20030054 | Clayton, Dubilier & Ride Fund VI Limited Partnership | Kinko's Inc | Kinko's Inc.
20030056 | Microsoft Corporation | Vicinity Corporation | Vicinity Corporation.
20030057 | Adventist Health System Sunbelt | Adventist Health Mid-America, Inc | Adventist Health Mid-America, Inc.
20030058 | GS Capital Partners 2000, L.P | R.H. Donnelley Corporation | R.H. Donnelley Corporation.
20030060 | GILDEMEISTER Aktiengesellshaft | ThyssenKrupp AG | ThyssenKrupp Metal Cutting GmbH.
20030061 | Bucher Industries AG | Knight Manufacturing Corporation | Knight Manufacturing Corporation.
Transactions Granted Early Termination—11/05/2002
20030063 | GROWMARK, Inc | Agway, Inc | Agway, Inc.
Transactions Granted Early Termination—11/07/2002
20030033 | NetlQ Corporation | PentaSafe Security Technologies, Inc | PentaSafe Security Technologies, Inc.
20030047 | Lake Carnegie, LLC | Walcott Partners, L.P | Celtics Basketball, L.P.
20030065 | ONEOK, Inc | Southern Union Company | Southern Union Company.
20030070 | Lucent Technologies Inc | Solectron Corporation | Solectron Corporation.
Transactions Granted Early Termination—11/12/2002
20030081 | Spectrum Equity Investors IV, L.P | RCN Corporation | RCN Telecom Services, Inc.
Transactions Granted Early Termination—11/13/2002
20030082 | RF Micro Devices, Inc | Resonext Communications, Inc | Resonext Communications, Inc.
Transactions Granted Early Termination—11/15/2002
20030042 | Liberty Media Corporation | ACTV, Inc | ACTVN, Inc.
Transactions Granted Early Termination—11/19/2002
20030083 | Insight Communications Company, Inc | AT&T Corp | InterMedia Partners Southeast.
20030086 | Temasek Holdings (Private) Limited | Global Crossing Ltd | Global Crossing Ltd. (New).
20030087 | Hutchison Whampoa Limited | Global Crossing Ltd | Global Crossing Ltd. (New).
20030089 | Grant Prideco, Inc | Schlumberger Limited | Reed-Hycalog Operating, L.P.
20030090 | Schlumberger Limited | Grant Prideco, Inc | Grant Prideco, Inc.
20030096 | Health Management Associates, Inc | Monterra Health System, Inc | Aracoma Medical Foundation, Inc.
|  |  | The Logan Medical Foundation.
20030097 | General Electric Company | Cablevision System Corporation | Bravo Company.
|  |  | Bravo Holding Corporation.
|  |  | Bravo II Holding Corporation.
20030098 | Nautic Partners, V, L.P | Summit Venture IV, L.P | HRI Holdings Corp.
20030101 | LifePoint Hospitals, Inc | Monterra Health System, Inc | Aracoma Medical Foundation, Inc.
|  |  | The Logan Medical Foundation.
Transactions Granted Early Termination—11/20/2002
20030068 | First Reserve Fund IX, L.P | Quanta Services, Inc | Quanta Services, Inc.
20030094 | Mitsubishi Corporation | Newco Corporation | Newco Corporation.
20030107 | The Berwind Company LLC | Hunt Corporation | Hunt Corporation.
Transactions Granted Early Termination—11/21/2002
20020432 | Wal-Mart Stores, Inc | Supermercados Amigo, Inc | Supermercados Amigo, Inc.
20030064 | KSM Aquisition Company, L.P | Metromedia International Group, Inc | Snapper, Inc.
Transactions Granted Early Termination—11/22/2002
20030078 | King Pharmaceuticals, Inc | Meridian Medical Technologies, Inc | Meridian Medical Technologies, Inc.
20030084 | DRS Technologies, Inc | Paravant Inc | Paravant Inc.
20030088 | Guidant Corporation | Novartis AG | Novartis AG.
20030115 | Meredith Corporation | PRIMEDIA, Inc | PRIMEDIA, Inc.
Transactions Granted Early Termination—11/25/2002
20030092 | Northern Trust Corporation | Deutsche Bank AG | Deutsche Asset Management (Australia) Ltd.
|  |  | Deutsche Asset Management Investment Services Ltd.
|  |  | Deutsche Asset Management Japan Limited.
|  |  | Deutsche Asset Management Life & Pensions Ltd.
|  |  | Deutsche Asset Management Limited.
|  |  | Deutsche Asset Management, Inc.
|  |  | Deutsche Bank Trust Company Americas.
|  |  | Deutsche Investment Management Americas Inc.
|  |  | Deutsche Trust Bank Limited.
|  |  | Deutsche Trust Company.
|  |  | Deutsche Unit Trust Managers Limited.
20030103 | Prudential Financial, Inc | TMW Real Estate Group, LLC | TMW Investments, Inc.
|  |  | TMW Real Estate Group, LLC.
|  |  | TMW Real Estate Management, Inc.
20030110 | James E. Stephenson | Carlton Company | Carlton Company.
20030116 | SSA Investor, LLC | Infinium Software, Inc | Infinium Software, Inc.
20030118 | Fisherv, Inc. | Electronic Data Systems Corporation | EDS Information Services, LLC.
|  |  | EDS Resource Management Corporation.
20030120 | SECOM Co., Ltd | Futurelogic Incorporated | Futurelogic Incorporated.
Transactions Granted Early Termination—11/27/2002
20020840 | Hitachi, Ltd | International Business Machines Corporation | Holdco.
20030059 | BAE Systems plc | Condor Pacific Industries, Inc | Condor Pacific Industries, Inc.
Transactions Granted Early Termination—12/02/2002
20030075 | Borland Software Corporation | TogetherSoft Corporation | TogetherSoft Corporation.
Transactions Granted Early Termination—12/03/2002
20030108 | Community Health Systems, Inc | HCA, Inc | HCA, Inc.
20030109 | Community Health Systems, Inc | Methodist Healthcare | Methodist Healthcare.
20030111 | DG Foods Income Fund | The Estate of Arthur M. Goldberg | Di Giorgio Corporation.
20030117 | Cathay Financial Holding Co., Ltd | United World Chinese Commercial Bank | United World Chinese Commercial Bank.
20030122 | Chemtrade Logistics Income Fund | Clariant AG | Clariant (Canada) Inc.
|  |  | Clariant Corporation.
20030139 | KAP Global Publishers S.A | Wolters Kluwer nv | Kluwer Academic Publishers B.V.
20030142 | Safeguard Scientifics, Inc | Alliance Consulting Group Associates, Inc | Alliance Consulting Group Associates, Inc.
20030144 | Morgan Stanley Dean Witter Capital Partners IV, L.P | Baptist Health System | Baptist Health System.
20030158 | Superior Propane Income Fund | Sterling Chemicals Holdings, Inc | Sterling (Sask) Holdings Ltd.
|  |  | Sterling Canada, Inc.
|  |  | Sterling Chemicals Acquisitions, Inc.
|  |  | Sterling NRO, Ltd.
|  |  | Sterling Pulp Chemicals Fuzhou, Ltd.
|  |  | Sterling Pulp Chemicals US, Inc.
|  |  | Sterling Pulp Chemicals, Inc.
|  |  | Sterling Pulp Chemicals, Inc.
Transactions Granted Early Termination—12/04/2002
20030091 | National Oilwell, Inc | Hydralift ASA | Hydralift ASA.
20030123 | Mr. Reinhard Mohn | Clive J. Davis, c/o J Entertainment LLC | J Records LLC.
Transactions Granted Early Termination—12/05/2002
20030102 | Kenneth A. Hendricks | William Davidson | Wm. Cameron & Co.
20030136 | State Street Corporation | Deutsche Bank AG | InterSec Research Corp.
20030146 | Vito Modesto Rodriguez Rodriguez | Dean Foods Company | Garrido y Compania, LLC.
|  | Neva Plastics Manufacturing Corp
|  | Suiza Dairy II
|  | Suiza Fruit Corp
20030148 | Eurohypo Aktiengesellschaft | Allianz Aktiengessellschaft | Allianz Aktiengesellschaft.
|  |  | Dresdner Bank AG.
20030150 | Wellspring Capital Partners III, L.P | John C. Vatterott Family Trust | Vatterott Educational Centers, Inc.
20030152 | ProQuest Company | bigchalk.com.inc. | bigchalk.com.inc.
Transactions Granted Early Termination—12/06/2002
20030153 | E.ON AG | Bergemann GmbH | Bergemann GmbH.
20030168 | CIT Group Inc | Isuzu Motors Limited | IMAC OT.
20030170 | Bonita Bay Holdings, Inc | Abbott Laboratories | Abbott Laboratories.

FOR FURTHER INFORMATION CONTACT: Sandra M. Peay or Renee A. Hallman Contact Representative, Federal Trade Commission, Premerger Notification Office, Bureau of Competition, Room 303, Washington, DC 20580, (202) 326-3100.

By Direction of the Commission.
Donald S. Clark,
Secretary.

[FR Doc. 02-32992 Filed 12-30-02; 8:45 am]

BILLING CODE 6750-01-M